SOCIAL SECURITY ADMINISTRATION

The Ticket To Work and Work Incentives Advisory Panel Teleconferences

AGENCY: Social Security Administration (SSA).

ACTION: Notice of Teleconferences.

DATES: Wednesday April 3, 2002 and Tuesday April 9, 2002.

TELECONFERENCES: Wednesday April 3, 2002, 1:30 PM to 3:30 PM and Tuesday April 9, 2002, 1:30 PM to 3:30 PM.

Ticket To Work and Work Incentives Advisory Panel Conference Calls

Call-in number: 888-603-9224.

Pass code: 11212.

Leader/Host: Sarah Wiggins Mitchell.

SUPPLEMENTARY INFORMATION: Type of meeting: These teleconference meetings are open to the public. The interested public is invited to participate by calling into the teleconference at the number listed above. Public testimony will not be taken.

Purpose: In accordance with section 10(a)(2) of the Federal Advisory Committee Act, the Social Security Administration (SSA) announces this teleconference meeting of the Ticket to Work and Work Incentives Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Agenda: The Panel will deliberate on the implementation of TWWIIA and conduct administrative business. Topics of discussion on April 3, 2002 will include a briefing and discussion on issues related to forthcoming regulatory packages on certain provisions of TWWIIA, including Protection & Advocacy, Expedited Reinstatement, Continuing Disability Review Protection and referrals to Vocational Rehabilitation. Topics of discussion on April 9, 2002 and will include deliberations on the Panel's Annual Report and Progress Report on the Ticket to Work Program. The agenda for these meetings will posted on the Internet at http://www.ssa.gov/work/panel/ one week prior to each teleconference or can be received in advance electronically or by fax upon request.

Contact Information: Records are being kept of all Panel proceedings and will be available for public inspection by appointment at the Panel office. Anyone requiring information regarding the Panel should contact the TWWIIA Panel staff by:

• mail addressed to Ticket to Work and Work Incentives Advisory Panel Staff, Social Security Administration, 400 Virginia Avenue, SW, Suite 700, Washington, DC, 20024;

• telephone contact with Kristen Breland at (202) 358-6430;

• fax at (202) 358-6440;

• or e-mail to TWWIIAPanel@ssa.gov

Dated: March 14, 2002.
Deborah M. Morrison,
Designated Federal Officer.

[FR Doc. 02-6816 Filed 3-19-02; 8:45 am]

BILLING CODE 4191-02-U